FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—02/12/2007
20070676 | Apache Corporation | Permian Basin Joint Venture LLC | Permian Basin Joint Venture LLC.
Transactions Granted Early Termination—02/13/2007
20070697 | Deseret Management Corporation | Joseph M. & Marie H. Field | Entercom Cincinnati License, LLC, Entercom Cincinnati, LLC, Entercom Seattle License, LLC, Entercom Seattle, LLC.
20070699 | Joseph M. & Marie H. Field | Deseret Management Corporation | Bonneville International Corporation.
20070710 | State Street Corporation | Currenex, Inc. | Currenex, Inc.
Transactions Granted Early Termination—02/14/2007
20070662 | IFM Infrastructure Funds | Colonial Pipeline Company | Colonial Pipeline Company.
20070671 | HOV Capital LLC | Charterhouse Equity Partners IV, LP | Charter Lason Inc.
20070687 | ArcLight Energy Partners Fund III, L.P | Jerry C. Dearing | National Energy & Trade Holdings, LLC.
20070688 | ArcLight Energy Partners Fund III, L.P | Joe M. Gutierrez | National Energy & Trade Holdings, LLC.
20070692 | Reyes Holdings, L.L.C | Leona Aronoff | Gate City Beverage Distributors.
20070694 | BT Group plc | The 1981 Kara Ann Berg Trust | International Network Services, Inc.
20070696 | Charles River Partnership XI, LP | BigBand Networks, Inc. | BigBand Networks, Inc.
20070698 | TowerBrook Investors II, L.P | Madison Dearborn Capital Partners, L.P | Beverages & More, Inc.
20070709 | Roger F. Penske | Donald J. Tamburro | Tamburro Enterprises, Inc.
20070714 | Jerry Moyes | Swift Transportation Co., Inc | Swift Transportation Co., Inc.
20070715 | Cator Sweden AB | Apax Europe V-A, L.P | MHC UK Limited.
20070716 | Diamond Lease Company Limited | UFJ Central Leasing Co., Ltd | UFJ Central Leasing Co., Ltd.
20070719 | FC-Gen Investments, LLC | Genesis HealthCare Corporation | Genesis HealthCare Corporation.
Transactions Granted Early Termination—02/15/2007
20070634 | LVB Acquisition Holding, LLC | Biomet, Inc | Biomet, Inc.
20070655 | Dover Corporation | Eugene A. Janning, Jr | Pole/Zero Corporation
20070660 | Icahn Partners Master Fund LP | Temple-Inland Inc. | Temple-Inland Inc.
Transactions Granted Early Termination—02/20/2007
20070703 | QBE Insurance Group Limited | AXA S.A | Winterthur U.S. Holdings, Inc.
20070711 | Sun Life Financial Inc | Genworth Financial, Inc | California Benefits Dental Plan, Dental Holdings, Inc., Genworth Administrators, Inc., Genworth Life and Health Insurance Company, Professional Insurance Company.
Transactions Granted Early Termination—02/21/2007
20070566 | Robert Piccinini | AB Acquisition LLC | ABS NoCal Investor LLC, ABS NoCal Owner LLC, AFDI NoCal Investor LLC, ASP NoCal Investor LLC, ASP NoCal Lease Investor LLC, ASP NoCal Owner LLC, Lucky Stores II, LLC, Lucky Stores, Inc.
20070707 | Siemens Aktiengesellschaft | UGS Capital Corp | UGS Capital Corp.
20070732 | The St. Paul Travelers Companies, Inc | Citigroup Inc | Citigroup Inc.
20070735 | Elara Holdings, Inc | Direct General Corporation | Direct General Corporation.
20070739 | General Atlantic Partners 83, L.P | Pivotal NS, LLC | Network Solutions, LLC.
20070749 | American International Group, Inc | Port & Free Zone World FZE | P&O Ports North America, Inc., PORTS Insurance Company, Inc.
20070761 | National HealthCare Corporation | National Health Realty, Inc | National Health Realty, inc.
20070762 | CAP Gemini SA | Fremont Partners, L.P | Software Architects, Inc.
Transactions Granted Early Termination—02/22/2007
20070673 | The Charles Schwab Corporation | Nationwide Mutual Insurance Company | The 401(k) Companies, Inc.
20070723 | Catterton Partners VI, L.P | Edward P. Bass | Monosol LLC.
20070755 | KPS Special Situations Fund II (A), L.P | Johnson Controls, Inc | Bristol Compressors, Inc.
Transactions Granted Early Termination—02/23/2007
20070702 | MABEG, e.V | Siemens Aktiengesellschaft | Siemens Aktiengesellschaft.
20070721 | Graham Partners II, L.P | Sorenson Capital Partners, LP | Atlas Aerospace, LLC, Vitron Acquisition Corporation, Vitron Acquisition LLC.
20070722 | FPL Group, Inc | Wisconsin Energy Corporation | Wisconsin Electric Power Company.
20070733 | General Electric Company | Abbott Laboratories | Abbott Laboratories.
20070740 | American Electric Power Company, Inc | DPL Inc | DPL Energy, LLC.
20070748 | Wychwood Trust | Yucaipa American Alliance Fund I, LP | TDS Logistics, Inc.
20070751 | Kelso Investment Associates VII, L.P | Audio Visual Services Corporation | Audio Visual Services Corporation.
20070759 | The Coca-Cola Company | Fuze Beverage, LLC | Fuze Beverage, LLC.
20070760 | Trican Well Service Ltd | Mr. George Soros | LibPP.
20070763 | Gregory Fleming | Merrill Lynch & Co., Inc | Merrill Lynch & Co., Inc.
20070764 | Dow Kim | Merrill Lynch & Co., Inc | Merrill Lynch & Co., Inc.
20070765 | E. Stanley O'Neal | Merrill Lynch & Co., Inc | Merrill Lynch & Co., Inc.
20070766 | Ahmass Fakahany | Merrill Lynch & Co., Inc | Merrill Lynch & Co., Inc.
20070767 | Robert McCann | Merrill Lynch & Co., Inc | Merrill Lynch & Co., Inc.
Transactions Granted Early Termination—02/26/2007
20070713 | Park Avenue Equity Partners II, L.P | Donald L. Besecker, Jr. and Laura M. Besecker | Pennmark Auto Group II, L.P., Pennmark Auto Group IV, LP, Pennmark Auto Group, LP.
20070717 | Park Avenue Equity Partners II, L.P | George E. Marucci, Jr | Pennmark Auto Group II, L.P., Pennmark Auto Group IV, LP, Pennmark Auto Group, LP.
20070726 | Onex Partners II LP | Eastman Kodak Company | Eastman Kodak Company.
20070731 | International Business Machines Corporation | Softek Storage Holdings, Inc | Softek Storage Holdings, Inc.
20070741 | West Corporation | Richland Ventures III, LP | TeleVox Software, Inc.
20070742 | West Corporation | Neil and Fran Smith Armentrout | TeleVox Software, Inc.
Transactions Granted Early Termination—02/27/2007
20070681 | LS Power Equity Partners II, L.P | Mirant Corporation | Mirant Las Vegas, LLC, Mirant Sugar Creek, LLC, Mirant Texas, LP, Mirant Zeeland, LLC, Shady Hills Power Company, L.L.C., West Georgia Generating Company, L.L.C.
20070750 | s.a. D'leteren n.v | Safelite Group, Inc | Safelite Group, Inc.
20070770 | General Atlantic Partners 83, L.P | AKQA, Inc | AKQA, Inc.
20070772 | Edge Acquisition, LLC c/o Sterling Capital Partners LLC | Educate, Inc | Educate, Inc.
20070774 | Audax Private Equity Fund, L.P | Industrial Growth Partners II, L.P | TASI Holdings, Inc.
20070785 | Carlyle Partners IV, L.P | Philosophy, Inc | Philosophy, Inc.
20070786 | Imperial Tobacco Group PLC | Houchens Industries, Inc. ESOP and Trust | CBHC, Inc.
20070787 | The Bear Stearns Companies Inc | Progress Energy, Inc | Ceredo Synfuel LLC, Sandy River Synfuel LLC, Solid Energy LLC, Solid Fuel LLC.
20070793 | Ralcorp Holdings, Inc | Harold B. Rothman and Wendi F. Rothman | Bloomfield Bakers L.P., Lovin Oven, LLC.
20070794 | Ralcorp Holdings, Inc | William R. Ross | Bloomfield Bakers L.P., Lovin Oven, LLC.
20070798 | Babcock & Brown Wind Partners Limited | Babcock & Brown Limited | B&B Wind Portfolio.
20070805 | Fraser Papers, Inc | Partners Limited | Katahdin Holdings LLC.
20070806 | Aurora Equity Partners III L.P | Hellman & Friedman Capital Partners IV, L.P | Mitchell International Holding, Inc.
Transactions Granted Early Termination—03/01/2007
20070728 | Allied Capital Corporation | Direct Capital Corporation | Direct Capital Corporation.
20070734 | Carlyle/Riverstone Global Energy and Power Fund III, L.P | TSI Delaware, Inc | Titan GP, LLC, Titan Specialties, Ltd.
20070788 | Paul G. Desmarais | March & McLennan Companies, Inc | Putnam Investments Trust.

For Further Information Contact: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 07-1165 Filed 3-12-07; 8:45 am]

BILLING CODE 6750-01-M